DEPARTMENT OF STATE

[Public Notice 8126]

30-Day Notice of Proposed Information Collection: Application for Employment as a Locally Employed Staff or Family Member

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to January 18, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Caroline Cole, Bureau of Human Resources, Office of Overseas Employment, U.S. Department of State, Washington, DC 20547, who may be reached on 202-203-7390 or at ColeCM@state.gov.

SUPPLEMENTARY INFORMATION: • Title of Information Collection: Application for Employment as a Locally Employed Staff or Family Member.

• OMB Control Number: 1405-0189.

• Type of Request: Revision of a Currently Approved Collection.

• Originating Office: Bureau of Human Resources, Office of Overseas Employment.

• Form Number: DS-0174.

• Respondents: Candidates seeking employment at U.S. Missions abroad, including family members of Foreign Service, Civil Service, and uniformed service members officially assigned to the Mission and under Chief of Mission authority.

• Estimated Number of Respondents: 40,000.

• Estimated Number of Responses: 40,000.

• Average Time per Response: 1 hour.

• Total Estimated Burden Time: 40,000.

• Frequency: On Occasion.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The DS-0174, Application for Employment as a Locally Employed Staff or Family Member, is needed to meet information collection requirements for recruitments conducted at approximately 170 U.S. embassies and consulates throughout the world.

Foreign Service Act of 1980, Sections 103, 105, 206, 301, 303, 311, 408, 501.

Methodology

Candidates for employment use the DS-0174 to apply for Mission-advertised positions throughout the world. Mission recruitments generate approximately 40,000 applications per year. Data that HR and hiring officials extract from the DS-0174 determines eligibility for employment, qualifications for the position, and selections according to Federal policies.

Dated: December 14, 2012.
William E. Schaal, Jr.,
Executive Director, HR/EX, Department of State.

[FR Doc. 2012-30540 Filed 12-18-12; 8:45 am]

BILLING CODE 4710-15-P